DEPARTMENT OF COMMERCE

National Oceanic and Atmospheric Administration

[RTID 0648-XA111]

Mid-Atlantic Fishery Management Council (MAFMC); Public Meeting

AGENCY: National Marine Fisheries Service (NMFS), National Oceanic and Atmospheric Administration (NOAA), Commerce.

ACTION: Notice of public meeting.

SUMMARY: The Mid-Atlantic Fishery Management Council (Council) will hold a webinar-based meeting with the public to provide information on options available to recreational anglers fishing for blueline or golden tilefish for electronically submitting Vessel Trip Reports (VTRs) in the Greater Atlantic Region. This is in support of the Council's action that could require electronic reporting of VTRs by operators fishing for tilefish managed under Amendment 6 to the Council's Tilefish Fishery Management Plan.

DATES: The meeting will be held on Tuesday, April 28, beginning at 5:30 p.m. and conclude by 7:30 p.m. For agenda details, see SUPPLEMENTARY INFORMATION.

ADDRESSES: The meeting will be held via webinar (http://mafmc.adobeconnect.com/pr_private_tf/) with a telephone audio connection (provided when connecting). Audio only access via conference phone number: 1-800-832-0736; Room Number: 5068609.

Council address: Mid-Atlantic Fishery Management Council, 800 N State St., Suite 201, Dover, DE 19901; telephone: (302) 674-2331.

FOR FURTHER INFORMATION CONTACT: Christopher M. Moore, Ph.D. Executive Director, Mid-Atlantic Fishery Management Council; telephone: (302) 526-5255. The Council's website, www.mafmc.org also has details on the proposed agenda, webinar access, and briefing materials.

SUPPLEMENTARY INFORMATION: The National Marine Fisheries Service (NMFS), National Oceanic and Atmospheric Administration (NOAA), published proposed regulations on January 29, 2020 to implement permitting and reporting measures for private recreational tilefish vessels that were approved as part of the Council's Amendment 6 to the Tilefish Fishery Management Plan. These actions would apply to anglers using a personal vessel to fish for and/or obtain blueline and/or golden tilefish for personal consumption that are not sold or bartered and would not impact the regulations for party/charter vessels. Private recreational tilefish vessels would be required to submit vessel trip reports (VTRs) for any trip targeting tilefish, through any NMFS-approved electronic reporting system. This meeting will provide a review of approved electronic VTR applications, initial steps that would be necessary for private recreational vessel operators to begin reporting electronically, and a demonstration of the most popular electronic reporting application (with limited time for questions) to convey information on the process involved for private recreational vessel operators to report VTRs electronically.

Special Accommodations

The meeting is physically accessible to people with disabilities. Requests for sign language interpretation or other auxiliary aid should be directed to M. Jan Saunders, (302) 526-5251, at least 5 days prior to the meeting date.

(Authority: 16 U.S.C. 1801 et seq.)

Dated: April 3, 2020.
Tracey L. Thompson,
Acting Deputy Director, Office of Sustainable Fisheries, National Marine Fisheries Service.

[FR Doc. 2020-07412 Filed 4-7-20; 8:45 am]

BILLING CODE 3510-22-P